ENVIRONMENTAL PROTECTION AGENCY

40 CFR Part 63

[PA001-1001; FRL-7134-8]

Approval of Section 112(l) Authority for Hazardous Air Pollutants; City of Philadelphia; Department of Public Health Air Management Services

AGENCY: Environmental Protection Agency (EPA).

ACTION: Proposed rule.

SUMMARY: EPA is proposing to approve Philadelphia Department of Public Health Air Management Services' (AMS's) request for delegation of authority to implement and enforce its hazardous air pollutant regulations which have been adopted by reference from the Federal requirements set forth in the Code of Federal Regulations. This proposed approval will automatically delegate future amendments to these regulations. For sources which are required to obtain a Clean Air Act operating permit, this proposed delegation addresses all existing hazardous pollutant regulations. For sources which are not required to obtain a Clean Air Act operating permit, this proposed delegation presently addresses the hazardous air pollutant regulations for perchloroethylene drycleaning facilities, hard and decorative chromium electroplating and chromium anodizing tanks, ethylene oxide sterilization facilities, halogenated solvent cleaning and secondary lead smelting. In addition, EPA is proposing to approve of AMS's mechanism for receiving delegation of all future hazardous air pollutant regulations which it adopts unchanged from the Federal requirements. This mechanism entails submission of a delegation request letter to EPA following EPA notification of a new Federal requirement. EPA is not waiving its notification and reporting requirements under this proposed approval; therefore, sources will need to send notifications and reports to both AMS and EPA. This action pertains to affected sources, as defined by the Clean Air Act hazardous air pollutant program.

EPA is taking this action in accordance with the Clean Air Act (CAA). In the Final Rules section of this Federal Register, EPA is approving the City's request for delegation of authority as a direct final rule without prior proposal because the Agency views this as a noncontroversial submittal and anticipates no adverse comments. A detailed rationale for the approval is set forth in the direct final rule. If no adverse comments are received in response to this action, no further activity is contemplated. If EPA receives adverse comments, the direct final rule will be withdrawn and all public comments received will be addressed in a subsequent final rule based on this proposed rule. EPA will not institute a second comment period. Any parties interested in commenting on this action should do so at this time.

DATES: Written comments must be received on or before February 28, 2002.

ADDRESSES: Written comments on this action should be sent concurrently to: Makeba A. Morris, Chief, Permits and Technical Assessment Branch, Mail Code 3AP11, Air Protection Division, U.S. Environmental Protection Agency, Region III, 1650 Arch Street, Philadelphia, PA 19103-2029, and Morris Fine, Director, Air Management Services, Department of Public Health, City of Philadelphia, 321 University Avenue, 2nd Floor, Philadelphia, PA 19104. Copies of the documents relevant to this action are available for public inspection during normal business hours at the Air Protection Division, U.S. Environmental Protection Agency, Region III, 1650 Arch Street, Philadelphia, Pennsylvania 19103 and Air Management Services, Department of Public Health, City of Philadelphia, 321 University Avenue, 2nd Floor, Philadelphia, PA 19104.

FOR FURTHER INFORMATION CONTACT: Dianne J. McNally, 215-814-3297, at the EPA Region III address above, or by e-mail at mcnally.dianne@epa.gov. Please note that any formal comments must be submitted, in writing, as provided in the ADDRESSES section of this document.

SUPPLEMENTARY INFORMATION: For further information on this action, pertaining to approval of AMS's delegation of authority for all hazardous air pollutant emission standards, as they apply to facilities required to obtain a Clean Air Act operating permit, and the hazardous air pollutant emission standards for perchloroethylene dry cleaning facilities, hard and decorative chromium electroplating and chromium anodizing tanks, ethylene oxide sterilizers, halogenated solvent cleaning and secondary lead smelters, as they apply to facilities not required to obtain a Clean Air Act operating permit (Clean Air Act section 112), please see the information provided in the direct final action, with the same title, that is located in the “Rules and Regulations” section of this Federal Register publication.

Dated: January 22, 2002.
Judith M. Katz,
Director, Air Protection Division, Region III.

[FR Doc. 02-2122 Filed 1-28-02; 8:45 am]

BILLING CODE 6560-50-P